NUCLEAR REGULATORY COMMISSION

10 CFR Part 72

[NRC-2011-0221]

RIN 3150-AJ05

List of Approved Spent Fuel Storage Casks: HI-STORM 100, Amendment No. 8; Corrections

AGENCY: Nuclear Regulatory Commission.

ACTION: Final rule; correcting amendments.

SUMMARY: On February 17, 2012 (77 FR 9515), the U.S. Nuclear Regulatory Commission (NRC) published a direct final rule amending its spent fuel storage regulations by revising the Holtec International, Inc. (Holtec) HI-STORM 100 Cask System listing within the “List of Approved Spent Fuel Storage Casks” to include Amendment No. 8 to Certificate of Compliance (CoC) No. 1014. The direct final rule was effective on May 2, 2012 (77 FR 24585; April 25, 2012). The NRC has made non-substantive corrections to the technical specifications (TS) and the NRC's Safety Evaluation Report (SER) for the Holtec HI-STORM 100 Cask System, Amendment No. 8. The purpose of this document is to provide notification that the NRC is amending its regulations by revising the Holtec HI-STORM 100 Cask System listing within the “List of Approved Spent Fuel Storage Casks” to include notification that Amendment No. 8 to CoC No. 1014 was corrected on November 16, 2012.

DATES: This rule is effective May 16, 2013.

ADDRESSES: Please refer to Docket ID NRC-2011-0221 when contacting the NRC about the availability of information for this final rule. You may access information related to this final rule, which the NRC possesses and is publicly available, by any of the following methods:

• Federal Rulemaking Web site: Go to http://www.regulations.gov and search for Docket ID NRC-2011-0221. Address questions about NRC dockets to Carol Gallagher; telephone: 301-492-3668; email: Carol.Gallagher@nrc.gov. For technical questions, contact the individual(s) listed in the FOR FURTHER INFORMATION CONTACT section of this final rule.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John Goshen, P.E., Office of Nuclear Material Safety and Safeguards, U.S. Nuclear Regulatory Commission, Washington, DC 20555-0001; telephone: 301-492-3325, email: John.Goshen@nrc.gov.

SUPPLEMENTARY INFORMATION:

I. Background

On May 17, 2012, the NRC received a request from Holtec by electronic mail to correct minor and non-substantive errors in Appendix A, “Technical Specifications for the HI-STORM 100 Cask System,” and Appendix B, “Approved Contents and Design Features for the HI-STORM 100 Cask System,” of CoC No. 1014. Holtec also identified errors in the NRC staff's SER. Holtec's requested corrections to the affected documents are to ensure consistency with the analyses and Final Safety Analysis Report (FSAR). The NRC has determined that the proposed TS and SER changes are being made to correct multiple revision bars in Appendices A and B of the TSs, and correcting several values in the NRC staff's SER that were previously approved by the NRC as part of the Holtect HI-STORM 100 Cask System rulemaking package approving Amendment No. 8 (77 FR 24585; April 25, 2012). The NRC staff inadvertently introduced the errors in the SER narrative. In some instances the NRC staff incorrectly referenced values or other references from the FSAR that had limited bearing on the staff's evaluation and did not affect the staff's conclusions because when the staff performed its evaluation and confirmatory conclusions the correct values were used. In some instances, typographical errors were made in the final document. In several instances language was revised to provide additional clarity. The NRC corrected the TSs and SER on November 16, 2012 (ADAMS Accession No. ML12213A170).

II. Section-by-Section Analysis

10 CFR 72.214

The effective date for Amendment No. 8 to CoC No. 1014 is revised to include notification that Amendment No. 8 was corrected on November 16, 2012 (ADAMS Accession No. ML12213A170).

III. Rulemaking Procedure

Under the Administrative Procedure Act (5 U.S.C. 553(b)), an agency may waive the normal notice and comments requirements if it finds, for good cause, that they are impracticable, unnecessary, or contrary to the public interest because it will have no substantive impact, are technical in nature, and relate only to management, organization, procedure, and practice. The Commission is exercising its authority under 5 U.S.C. 553(b)(3)(B) to publish this amendment as a final rule. The amendment is effective May 16, 2013. This amendment does not require action by any person or entity regulated by the NRC. Also, the final rule does not change the substantive responsibilities of any person or entity regulated by the NRC.

As authorized by 5 U.S.C. 553(b)(3)(B), the NRC finds good cause to waive notice and opportunity for comment on the revision previously stated because the revision is administrative in nature and does not change substantive requirements under the regulations. Specifically, the NRC is revising the Holtec HI-STORM 100 Cask System listing within the “List of Approved Spent Fuel Storage Casks” to include notification that Amendment No. 8 to CoC No. 1014 was corrected on November 16, 2012 (ADAMS Accession No. ML12213A170).

IV. Environmental Impact: Categorical Exclusion

The NRC has determined that this final rule is the type of action described in categorical exclusion 10 CFR 51.22(c)(2), which excludes from a major action rules which are corrective or of minor nonpolicy nature and do not substantially modify existing regulations. Therefore, neither an environmental impact statement nor an environmental assessment has been prepared for this rule.

V. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid Office of Management and Budget control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the non-substantive change in this final rule does not constitute backfitting, and therefore a backfit analysis is not included. The revision is non-substantive in nature: revising the Holtec HI-STORM 100 Cask System listing within the “List of Approved Spent Fuel Storage Casks” to include notification that Amendment No. 8 to CoC No. 1014 was corrected on November 16, 2012 (ADAMS Accession No. ML12213A170). The change imposes no new requirements and makes no substantive change to the regulations. The revision does not involve any provisions that would impose backfits as defined in 10 CFR chapter I, or would be inconsistent with the issue finality provisions in 10 CFR part 52. For these reasons, the issuance of the rule in final form would not constitute backfitting. Therefore, a backfit analysis was not prepared.

List of Subjects in 10 CFR Part 72

Administrative practice and procedure, Criminal penalties, Manpower training programs, Nuclear materials, Occupational safety and health, Penalties, Radiation protection, Reporting and recordkeeping requirements, Security measures, Spent fuel, Whistleblowing.

For the reasons set out in the preamble and under the authority of the Atomic Energy Act of 1954, as amended; the Energy Reorganization Act of 1974, as amended; and 5 U.S.C. 552 and 553, the NRC is adopting the following amendments to 10 CFR part 72.

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act secs. 51, 53, 57, 62, 63, 65, 69, 81, 161, 182, 183, 184, 186, 187, 189, 223, 234, 274 (42 U.S.C. 2071, 2073, 2077, 2092, 2093, 2095, 2099, 2111, 2201, 2232, 2233, 2234, 2236, 2237, 2238, 2273, 2282, 2021); Energy Reorganization Act sec. 201, 202, 206, 211 (42 U.S.C. 5841, 5842, 5846, 5851); National Environmental Policy Act sec. 102 (42 U.S.C. 4332); Nuclear Waste Policy Act secs. 131, 132, 133, 135, 137, 141 148 (42 U.S.C. 10151, 10152, 10153, 10155, 10157, 10161, 10168); sec. 1704, 112 Stat. 2750 (44 U.S.C. 3504 note); Energy Policy Act of 2005, Pub. L. 109-58, 119 Stat. 549 (2005).

Section 72.44(g) also issued under secs. Nuclear Waste Policy Act 142(b) and 148(c), (d) (42 U.S.C. 10162(b), 10168(c), (d)). Section 72.46 also issued under Atomic Energy Act sec. 189 (42 U.S.C. 2239); Nuclear Waste Policy Act sec. 134 (42 U.S.C. 10154). Section 72.96(d) also issued under Nuclear Waste Policy Act sec. 145(g) (42 U.S.C. 10165(g)). Subpart J also issued under Nuclear Waste Policy Act secs. 117(a), 141(h) (42 U.S.C. 10137(a), 10161(h)). Subpart K is also issued under sec. 218(a) (42 U.S.C. 10198).

2. In § 72.214, Certificate of Compliance 1014 is revised to read as follows:

§ 72.214 List of approved spent fuel storage casks.

* * * * *

Certificate No.: 1014.

Initial Certificate Effective Date: May 31, 2000.

Amendment Number 1 Effective Date: July 15, 2002.

Amendment Number 2 Effective Date: June 7, 2005.

Amendment Number 3 Effective Date: May 29, 2007.

Amendment Number 4 Effective Date: January 8, 2008.

Amendment Number 5 Effective Date: July 14, 2008.

Amendment Number 6 Effective Date: August 17, 2009.

Amendment Number 7 Effective Date: December 28, 2009.

Amendment Number 8 Effective Date: May 2, 2012, as corrected on November 16, 2012 (ADAMS Accession No. ML12213A170).

SAR Submitted by: Holtec International.

SAR Title: Final Safety Analysis Report for the HI-STORM 100 Cask System.

Docket Number: 72-1014.

Certificate Expiration Date: May 31, 2020.

Model Number: HI-STORM 100.

* * * * *

Dated at Rockville, Maryland, this 10th day of April, 2013.
For the Nuclear Regulatory Commission.
Cindy Bladey,
Chief, Rules, Announcements, and Directives Branch, Division of Administrative Services, Office of Administration.

[FR Doc. 2013-08889 Filed 4-15-13; 8:45 am]

BILLING CODE 7590-01-P